DEPARTMENT OF THE INTERIOR

Bureau of Land Management

[OR-958-6333-ET; GP0-0244; OR-53979]

Cancellation of Proposed Withdrawal; Oregon

AGENCY: Bureau of Land Management, Interior.

ACTION: Notice.

SUMMARY: The U.S. Department of Agriculture, Forest Service, has canceled its application to withdraw approximately 960 acres of National Forest System lands, lying within the Syskiyou National Forest, for protection of the North Fork Smith River. This action will cancel the proposed withdrawal.

FOR FURTHER INFORMATION CONTACT: Charles R. Roy, BLM Oregon/Washington State Office, 503-952-6189.

SUPPLEMENTARY INFORMATION: On October 23, 1997, the U.S. Department of Agriculture, Forest Service, filed an application to withdraw lands for the protection of the North Fork Smith River. A Notice of Proposed Withdrawal was published in the Federal Register, 63FR29427, May 29, 1998, which segregated the lands described therein from location and entry under the United States mining laws (30 U.S.C. Ch. 2 (1994), but not the mineral leasing laws, subject to valid existing rights. The applicant agency has canceled the application in its entirety. This action is subject to valid existing rights, the provisions of existing withdrawals, and other segregations of record.

Dated: June 6, 2000.
Robert D. DeViney Jr.,
Chief, Branch of Realty and Records Services.

[FR Doc. 00-15174 Filed 6-14-00; 8:45 am]

BILLING CODE 4310-33-P